FEDERAL COMMUNICATIONS COMMISSION

47 CFR Part 8

[CG Docket No. 22-2; FCC 22-86; FR ID 179821]

Empowering Broadband Consumers Through Transparency

AGENCY: Federal Communications Commission.

ACTION: Final rule.

SUMMARY: In this document, the Commission incorporates the compliance dates for the broadband consumer label rules per the Broadband Label Order. The rules require broadband internet access service providers to display, at the point of sale, labels that disclose certain information about broadband prices, introductory rates, data allowances, and broadband speeds, and to include links to information about their network management practices, privacy policies, and the Commission's Affordable Connectivity Program.

DATES: Effective date: October 26, 2023.

FOR FURTHER INFORMATION CONTACT: Erica H. McMahon of the Consumer and Governmental Affairs Bureau, Consumer Policy Division, at (202) 418-0346 or Erica.McMahon@fcc.gov.

SUPPLEMENTARY INFORMATION: The Commission publishes this document to incorporate the compliance dates for § 8.1(a)(1) through (6) of the rules adopted in the Broadband Label Order, 87 FR 76959 (December 16, 2022). In a document published at 88 FR 69883 (October 10, 2023), the Commission announced the compliance dates and stated that it would publish a document in the Federal Register revising § 8.1(a)(7) to incorporate the compliance dates.

To request materials in accessible formats for people with disabilities (Braille, large print, electronic files, audio format), send an email to fcc504@fcc.gov or call the Consumer and Governmental Affairs Bureau at (202) 418-0530 (voice).

List of Subjects in 47 CFR Part 8

Cable television, Common carriers, Communications common carriers, Reporting and recordkeeping requirements, Satellites, Telecommunications, Telephone, Radio.

Federal Communications Commission.
Marlene Dortch,
Secretary, Office of the Secretary.

Final Rules

For the reasons discussed in the preamble, the Federal Communications Commission amends 47 CFR part 8 as follows:

PART 8—INTERNET FREEDOM

1. The authority citation for part 8 continues to read as follows:

Authority: 47 U.S.C. 154, 201(b), 257, 303(r), and 1753.

2. Amend § 8.1 by revising paragraph (a)(7) to read as follows:

§ 8.1 Transparency.

(a) * * *

(7) Compliance with paragraphs (a)(1), (2), and (4) through (6) of this section for providers with 100,000 or fewer subscriber lines is required as of October 10, 2024, and for all other providers is required as of April 10, 2024, except that compliance with the requirement in paragraph (a)(2) of this section to make labels accessible in online account portals will not be required for all providers until October 10, 2024. Compliance with paragraph (a)(3) of this section is required for all providers as of October 10, 2024.

* * * * *

[FR Doc. 2023-23415 Filed 10-25-23; 8:45 am]

BILLING CODE 6712-01-P